DEPARTMENT OF ENERGY

[GDO Docket No. EA-370-C]

Application for Renewal of Authorization To Export Electric Energy; Vitol Inc.

AGENCY: Grid Deployment Office, Department of Energy.

ACTION: Notice of application.

SUMMARY: Vitol Inc. (the Applicant or Vitol) has applied for renewed authorization to transmit electric energy from the United States to Canada pursuant to the Federal Power Act.

DATES: Comments, protests, or motions to intervene must be submitted on or before February 23, 2026.

ADDRESSES: Comments, protests, motions to intervene, or requests for more information should be addressed by electronic mail to Electricity.Exports@hq.doe.gov.

FOR FURTHER INFORMATION CONTACT: Marina Fennel, (240) 702-6156, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) by Delegation Order No. S1-DEL-S3-2023 and Redelegation Order No. S3-DEL-GD1-2023.¹

¹ As stated in Redelegation Order No. S3-DEL-GD1-2023, nothing in the Order precludes the Secretary or the Under Secretary (for Infrastructure) from exercising any of the authority delegated by the Order.

On June 30, 2025, Vitol filed an application with DOE (Application or App.) for renewal of their export authority for an additional five-year term. App. at 2.

According to the Application, Vitol is a “power marketer and dealer of other energy products” and “has received blanket authority from the Federal Energy Regulatory Commission to sell wholesale energy, capacity and/or ancillary services at market-based rates[.]” Id. at 3. Vitol is a Delaware corporation with its principal place of business in Houston, Texas. Id at 4. The Applicant states it is a wholly owned direct subsidiary of Vitol US Holding Co, which is a direct, wholly-owned subsidiary of Euromin Inc. Id. at 3. The Applicant further states that Euromin Inc. is a wholly-owned subsidiary of the privately held Dutch company Vitol Holding B.V. Id.

The Applicant represents that its energy exports would be “surplus to the needs of the relevant system, and the exportation of the energy would not impair the adequacy of electric power supply with the United States[.]” App. at 5. The Applicant further states that “the requested authorization would not impede or tend to impede regional coordination of electric utility planning or operation. Applicant's export transactions will be completed using the relevant procedures and/or market structures and coordinated with all relevant parties as required pursuant to the applicable market rules.” Id. at 6.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning Vitol Inc.'s Application should be clearly marked with GDO Docket No. EA-370-C. Additional copies are to be provided directly to Averill H. Conn, Vitol Inc., 2925 Richmond Avenue, Ste. 1100, Houston, TX 77098-3133, acn@vitol.com, Casey Khan, Keturah A. Brown, 1000 Louisiana Street, Suite 5900, Houston, TX 77002, ckhan@sidley.com, keturah.brown@sidley.com.

A final decision will be made on the requested authorization after the environmental impacts have been evaluated pursuant to DOE's National Environmental Policy Act Implementing Procedures, including 10 CFR part 1021, and after DOE evaluates whether the proposed action will have an adverse impact on the sufficiency of supply or reliability of the United States electric power supply system.

Copies of this Application will be made available, upon request, by accessing the program website at www.energy.gov/gdo/pending-applications-0 or by emailing Electricity.Exports@hq.doe.gov.

Signing Authority

This document of the Department of Energy was signed on January 12, 2026, by Chris Wright, Secretary of Energy, U.S. Department of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 21, 2026.
Jennifer Hartzell,
Alternate Federal Register Liaison Officer, U.S. Department of Energy.

[FR Doc. 2026-01294 Filed 1-22-26; 8:45 am]

BILLING CODE 6450-01-P